FEDERAL COMMUNICATIONS COMMISSION

47 CFR Part 73

[DA 04-230; MB Docket No. 04-19; RM-10845]

Radio Broadcasting Services; Munford and Talladega, AL

AGENCY: Federal Communications Commission.

ACTION: Proposed rule.

SUMMARY: This document requests comments on a petition for rule making filed by Jacobs Broadcast Group, Inc., licensee of Station WTDR-FM, Channel 224A, Talladega, Alabama. The petition proposes to reallot WTDR-FM from Talladega to Munford, Alabama, and to provide Munford with its first local aural transmission service. The coordinates for requested Channel 224A at Munford, Alabama, are 33-29-12 NL and 85-59-15 WL, with a site restriction of 5.9 kilometers (3.6 miles) southwest of Munford.

Petitioner's reallotment proposal complies with the provisions of Section 1.420(i) of the Commission's Rules, and therefore, the Commission will not accept competing expressions of interest in the use of Channel 224A at Munford, Alabama, or require the petitioner to demonstrate the availability of an additional equivalent class channel.

DATES: Comments must be filed on or before March 29, 2004, and reply comments on or before April 13, 2004.

ADDRESSES: Secretary, Federal Communications Commission, 445 12th Street, SW., Room TW-A325, Washington, DC 20554. In addition to filing comments with the FCC, interested parties should serve the petitioner's counsel, as follows: Gary S. Tepper, Esq, Booth, Freret, Imlay & Tepper, P.C.; 7900 Wisconsin Ave., Suite 304; Bethesda, Maryland 20814-3628.

FOR FURTHER INFORMATION CONTACT: R. Barthen Gorman, Media Bureau, (202) 418-2180.

SUPPLEMENTARY INFORMATION: This is a synopsis of the Commission's Notice of Proposed Rule Making, MB Docket No. 04-19, adopted February 4, 2004, and released February 6, 2004. The full text of this Commission decision is available for inspection and copying during regular business hours in the FCC's Reference Information Center at Portals II, 445 12th Street, SW., CY-A257, Washington, DC, 20554. This document may also be purchased from the Commission's duplicating contractors, Qualex International, Portals II, 445 12th Street, SW., Room CY-B402, Washington, DC, 20554, telephone 202-863-2893, facsimile 202-863-2898, or via e-mail qualexint@aol.com.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334, and 336.

§ 73.202 [Amended]

2. Section 73.202(b), the Table of FM Allotments under Alabama, is amended by adding Munford, Channel 224A and by removing Talladega, Channel 224A.

Federal Communications Commission.
John A. Karousos,
Assistant Chief, Audio Division, Media Bureau.

[FR Doc. 04-3969 Filed 2-23-04; 8:45 am]

BILLING CODE 6712-01-P